DEPARTMENT OF TRANSPORTATION

Federal Aviation Administration

14 CFR Part 95

[Docket No. 30967; Amdt. No. 514]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, July 24, 2014.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125), telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on June 20, 2014.
John Duncan,
Director, Flight Standards Service.

Adoption of the Amendment

Accordingly, pursuant to the authority delegated to me by the Administrator, part 95 of the Federal Aviation Regulations (14 CFR part 95) is amended as follows effective at 0901 UTC, July 24, 2014.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 514 effective date July 24, 2014]
From | To | MEA | MAA
§ 95.3000 Low Altitude RNAV Routes § 95.3252 RNAV Route T252 is Amended to Read in Part
KOTZEBUE, AK VOR/DME | PERCI, AK WP |  | 17500
| NE BND | 3500 |
| SW BND | 3000 |
§ 95.3265 RNAV Route T265 is Amended by Adding
AHMED, IL FIX | START, IL FIX | *4000 | 8000
*2500—MOCA
START, IL FIX | BULLZ, IL FIX | *4000 | 8000
*2500—MOCA
§ 95.3265 RNAV Route T265 is Amended to Delete
KELSI, IL FIX | BULLZ, IL FIX | *4000 | 8000
*2300—MOCA
§ 95.4000 High Altitude RNAV Routes
§ 95.4019 RNAV Route Q19 is Amended by Adding
PLESS, IL FIX | ST LOUIS, MO VORTAC | *18000 | 45000
*18000—GNSS MEA
*DME/DME/IRU MEA
ST LOUIS, MO VORTAC | DES MOINES, IA VORTAC | *18000 | 45000
*18000—GNSS MEA
*DME/DME/IRU MEA
DES MOINES, IA VORTAC | SIOUX FALLS, SD VORTAC | *18000 | 45000
*18000—GNSS MEA
*DME/DME/IRU MEA
SIOUX FALLS, SD VORTAC | ABERDEEN, SD VOR/DME | *18000 | 45000
*18000—GNSS MEA
*DME/DME/IRU MEA
§ 95.4019 RNAV Route Q19 is Amended to Read in Part
NASHVILLE, TN VORTAC | PLESS, IL FIX | *18000 | 45000
*18000—GNSS MEA
*DME/DME/IRU MEA
§ 95.4020 RNAV Route Q20 is Amended to Read in Part
UNNOS, NM WP | FUSCO, TX FIX | *24000 | 45000
*18000—GNSS MEA
*DME/DME/IRU MEA
FUSCO, TX FIX | JUNCTION, TX VORTAC | *24000 | 45000
*18000—GNSS MEA
*DME/DME/IRU MEA

From | To | MEA
§ 95.6001 Victor Routes-U.S.
§ 95.6014 VOR Federal Airway V14 is Amended to Read in Part
SPRINGFIELD, MO VORTAC | VICHY, MO VOR/DME | 3100
§ 95.6035 VOR Federal Airway V35 is Amended to Delete
MORGANTOWN, WV VORTAC | INDIAN HEAD, PA VORTAC | *5000
*4400—MOCA
INDIAN HEAD, PA VORTAC | JOHNSTOWN, PA VORTAC | *5000
*4500—MOCA
JOHNSTOWN, PA VORTAC | TYRONE, PA VORTAC | 4500
TYRONE, PA VORTAC | PHILIPSBURG, PA VORTAC | 4500
§ 95.6088 VOR Federal Airway V88 is Amended to Read in Part
SPRINGFIELD, MO VORTAC | VICHY, MO VOR/DME | 3100
§ 95.6132 VOR Federal Airway V132 is Amended to Read in Part
SPRINGFIELD, MO VORTAC | FORNEY, MO VOR | 3100
§ 95.6139 VOR Federal Airway V139 is Amended to Read in Part
CAPE CHARLES, VA VORTAC | *DUNFE, VA FIX |
| NE BND | **4000
| SSW BND | **2000
*7000—MRA
**1600—MOCA
*DUNFE, VA FIX | SNOW HILL, MD VORTAC | **4000
*7000—MRA
**1600—MOCA
§ 95.6170 VOR Federal Airway V170 is Amended to Read in Part
DUPONT, DE VORTAC | ODESA, MD FIX | #*2000
*2000—GNSS MEA
#DUPONT R-233 UNUSABLE BEYOND 22 NM.
ODESA, MD FIX | SWANN, MD FIX | #*2500
*1500—MOCA
*2000—GNSS MEA
#UNUSABLE
SWANN, MD FIX | PALEO, MD FIX | #*2500
*1700—MOCA
#UNUSABLE
§ 95.6214 VOR Federal Airway V214 is Amended to Read in Part
SWANN, MD FIX | ODESA, MD FIX | #*2500
*1500—MOCA
*2000—GNSS MEA
#UNUSABLE
ODESA, MD FIX | DUPONT, DE VORTAC | #*2000
*2000—GNSS MEA
#DUPONT R-233 UNUSABLE BEYOND 22NM
§ 95.6276 VOR Federal Airway V276 is Amended to Delete
ERIE, PA VORTAC | FRANKLIN, PA VOR | 3600
FRANKLIN, PA VOR | CLARION, PA VOR/DME | *3700
*3200—MOCA
CLARION, PA VOR/DME | TYRONE, PA VORTAC | 4600
TYRONE, PA VORTAC | RASHE, PA FIX | 4500
§ 95.6433 VOR Federal Airway V433 is Amended to Read in Part
NOTTINGHAM, MD VORTAC | SWANN, MD FIX | #*2500
*1700—MOCA
#UNUSABLE
SWANN, MD FIX | ODESA, MD FIX | #*2500
*1500—MOCA
*2000—GNSS MEA
#UNUSABLE
ODESA, MD FIX | DUPONT, DE VORTAC | #*2000
*2000—GNSS MEA
#DUPONT R-233 UNUSABLE BEYOND 22NM
§ 95.6445 VOR Federal Airway V445 is Amended to Read in Part
SWANN, MD FIX | ODESA, MD FIX | #*2500
*1500—MOCA
*2000—GNSS MEA
#UNUSABLE
ODESA, MD FIX | DUPONT, DE VORTAC | #*2000
*2000—GNSS MEA
#DUPONT R-233 UNUSABLE BEYOND 22NM

From | To | MEA | MAA
§ 95.7001 Jet Routes
§ 95.7042 Jet Route J42 is Amended to Read in Part
TONIO, KY FIX | BECKLEY, WV VORTAC | 18000 | 35000
§ 95.7045 Jet Route J45 is Amended to Read in Part
ST LOUIS, MO VORTAC | KIRKSVILLE, MO VORTAC | 18000 | 45000
KIRKSVILLE, MO VORTAC | DES MOINES, IA VORTAC | 18000 | 45000
#DES MOINES R-141 UNUSABLE, USE KIRKVILLE R-323
§ 95.7051 Jet Route J51 is Amended to Read in Part
NOTTINGHAM, MD VORTAC | PALEO, MD FIX | 18000 | 29000
#UNUSABLE
PALEO, MD FIX | DUPONT, DE VORTAC | 18000 | 29000
#UNUSABLE
§ 95.7151 Jet Route J151 is Amended to Read in Part
ST LOUIS, MO VORTAC | KIRKSVILLE, MO VORTAC | 18000 | 45000
KIRKSVILLE, MO VORTAC | OMAHA, IA VORTAC | 18000 | 45000
OMAHA, IA VORTAC | O'NEILL, NE VORTAC | 18000 | 45000
§ 95.7233 Jet Route J233 is Amended to Read in Part
ST LOUIS, MO VORTAC | KIRKSVILLE, MO VORTAC | 18000 | 45000
KIRKSVILLE, MO VORTAC | WATERLOO, IA VORTAC | 18000 | 45000

Airway segment: From | Airway segment: To | Changeover points: Distance | Changeover points: From
§ 95.8005 Jet Routes Changeover Points
J233 is Amended to Add Changeover Point
KIRKSVILLE, MO VORTAC | WATERLOO, IA VORTAC | 78 |
KIRKSVILLE
J233 is Amended to Delete Changeover Point
WATERLOO, IA VORTAC | ST LOUIS, MO VORTAC | 55 |
WATERLOO

[FR Doc. 2014-15196 Filed 6-26-14; 8:45 am]

BILLING CODE 4910-13-P